DEPARTMENT OF AGRICULTURE

Forest Service

Siuslaw Resource Advisory Committee

AGENCY: Forest Service, USDA.

ACTION: Notice of meeting.

SUMMARY: The Siuslaw Resource Advisory Committee (RAC) will meet in Corvallis, Oregon. The committee is authorized under the Secure Rural Schools and Community Self-Determination Act (the Act) and operates in compliance with the Federal Advisory Committee Act. The purpose of the committee is to improve collaborative relationships and to provide advice and recommendations to the Forest Service concerning projects and funding consistent with Title II of the Act. RAC information can be found at the following Web site: http://www.fs.usda.gov/main/siuslaw/workingtogether/advisorycommittees.

DATES: The meeting will be held on January 23, 2017, from 9:00 a.m. to 5:00 p.m.

All RAC meetings are subject to cancellation. For status of meeting prior to attendance, please contact the person listed under For Further Information Contact.

ADDRESSES: The meeting will be held at the Corvallis Forestry Sciences Lab and Siuslaw National Forest Supervisor's Office, 3200 Southwest Jefferson Way, Corvallis, Oregon.

Written comments may be submitted as described under Supplementary Information. All comments, including names and addresses when provided, are placed in the record and are available for public inspection and copying. The public may inspect comments received at the Siuslaw National Forest Supervisor's Office. Please call ahead at 541-750-7075 to facilitate entry into the building.

FOR FURTHER INFORMATION CONTACT: Lisa Romano, RAC Coordinator by phone at 541-750-7075, or via email at lmromano@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is:

1. To conduct RAC business,

2. Elect a RAC chairperson,

3. Share information,

4. Provide a public forum, and

5. Review Siuslaw National Forest's recreation fee proposal.

The meeting is open to the public. Individuals wishing to make an oral statement should request to do so in writing by January 3, 2017, to be scheduled on the agenda. Anyone who would like to bring related matters to the attention of the committee may file written statements with the committee staff before or after the meeting. Written comments and requests for time for oral comments must be sent to Lisa Romano, RAC Coordinator, 3200 Southwest Jefferson Way, Corvallis, Oregon 97331; or by email to lmromano@fs.fed.us.

Meeting Accommodations: If you are a person requiring reasonable accommodation, please make requests in advance for sign language interpreting, assistive listening devices, or other reasonable accommodation. For access to the facility or proceedings, please contact the person listed in the section titled For Further Information Contact. All reasonable accommodation requests are managed on a case by case basis.

Dated: December 5, 2016.
Jeremiah Ingersoll,
Forest Supervisor, Siuslaw National Forest.

[FR Doc. 2016-29687 Filed 12-9-16; 8:45 am]

BILLING CODE 3411-15-P